DEPARTMENT OF LABOR

Employment and Training Administration

[TA-W-65,246]

Weyerhaeuser NR Company, I-Level Lumber—Aberdeen Division; Aberdeen, WA; Notice of Affirmative Determination Regarding Application for Reconsideration

By application dated May 19, 2009, the Carpenters Industrial Council/United Brotherhood of Carpenters and Joiners of America, Local Union 3099 requested administrative reconsideration of the negative determination regarding workers' eligibility to apply for Trade Adjustment Assistance (TAA) and Alternative Trade Adjustment Assistance (ATAA) applicable to workers and former workers of the subject firm. The determination was issued on May 8, 2009. The Notice of Determination will soon be published in the Federal Register.

The initial investigation resulted in a negative determination based on the finding that imports of softwood dimensional lumber, specifically Western Hemlock and Douglas Fir did not contribute importantly to worker separations at the subject firm and no shift of production to a foreign source occurred.

In the request for reconsideration, the petitioner provided additional information regarding imports of softwood dimensional lumber and alleged that the subject firm might have increased imports of softwood dimensional lumber in the relevant period. The petitioner also alleged that the subject firm might be eligible for TAA as secondary downstream producer of trade certified primary firm.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 10th day of June 2009.
Elliott S. Kushner,
Certifying Officer, Division of Trade Adjustment Assistance.

[FR Doc. E9-14333 Filed 6-17-09; 8:45 am]

BILLING CODE 4510-FN-P